DEPARTMENT OF LABOR

Occupational Safety and Health Administration

Susan Harwood Training Grant Program, FY 2012

AGENCY: Occupational Safety and Health Administration (OSHA), Labor.

ACTION: Notice of availability of funds and solicitation for Grant Applications (SGA) for Targeted Topic Training, and Targeted Topic Training and Educational Materials Development Grants.

Funding Opportunity No.: SHTG-FY-12-01.

Catalog of Federal Domestic Assistance No.: 17.502.

SUMMARY: This notice announces availability of approximately $1.2 million for Susan Harwood Training Program Grants under the following categories: Targeted Topic Training, and Training and Educational Materials Development Grants.

DATES: Grant applications must be received electronically by the Grants.gov system no later than 4:30 p.m., E.T., on Thursday, May 17, 2012, the application deadline date.

ADDRESSES: The complete Susan Harwood Training Grant Program solicitation for grant applications and all information needed to apply for this funding opportunity are available at the Grants.gov Web site, http://www.grants.gov.

FOR FURTHER INFORMATION CONTACT: Questions regarding this solicitation for grant applications should be emailed to HarwoodGrants@dol.gov or directed to Kimberly Mason, Program Analyst, or Jim Barnes, Director, Office of Training and Educational Programs, at 847-759-7700 (note this is not a toll-free number). To obtain further information on the Susan Harwood Training Grant Program, visit the OSHA Web site at: https://www.osha.gov, select the “Training” tab, and then select “Susan Harwood Training Grant Program.”

Authority: Section 21 of the Occupational Safety and Health Act of 1970 (29 U.S.C. 670), Pub. L. 111-117, and Pub. L. 112-10.

Signed at Washington, DC, on March 30, 2012.
David Michaels,
Assistant Secretary of Labor for Occupational Safety and Health.

[FR Doc. 2012-8091 Filed 4-3-12; 8:45 am]

BILLING CODE 4510-26-P